DEPARTMENT OF THE INTERIOR

Fish and Wildlife Service

2004 Migratory Bird Hunting and Conservation Stamp (Federal Duck Stamp) Contest

AGENCY: Fish and Wildlife Service, Interior.

ACTION: Notice.

SUMMARY: The Fish and Wildlife Service announces the dates and locations of the 2004 Federal Duck Stamp contest; the public is invited to enter and to attend.

DATES: 1. The official date to begin submission of entries to the 2004 contest is June 1, 2004. All entries must be postmarked no later than midnight, Monday, August 16, 2004.

2. The public may first view the 2004 Federal Duck Stamp Contest entries on Monday, October 4, 2004.

3. Judging will be held on Tuesday, October 5, 2004.

ADDRESSES: Requests for complete copies of the contest rules, reproduction rights agreement, and display and participation agreement may be requested by calling 1-703-358-2000, or requests may be addressed to: Federal Duck Stamp Contest, U.S. Fish and Wildlife Service, Department of the Interior, 4401 North Fairfax Drive, Mail Stop MBSP-4070, Arlington, VA 22203-1622. You may also download the information from the Federal Duck Stamp Web site at http://duckstamps.fws.gov.

FOR FURTHER INFORMATION CONTACT: Mr. Chris Tollefson,Chief, Federal Duck Stamp Office (703) 358-2000, E-mailChris_Tollefson@fws.gov or fax: (703) 358-2009.

SUPPLEMENTARY INFORMATION:

Background

On March 16, 1934, Congress passed and President Franklin Roosevelt signed the Migratory Bird Hunting Stamp Act. Popularly known as the Duck Stamp Act, it required all waterfowl hunters 16 years or older to buy a stamp annually. The revenue generated was originally earmarked for the Department of Agriculture, but 5 years later was transferred to the Department of the Interior and the U.S. Fish and Wildlife Service to buy or lease waterfowl sanctuaries.

In the years since its enactment, the Federal Duck Stamp Program has become one of the most popular and successful conservation programs ever initiated. Today, some 1.6 million stamps are sold each year, and as of 2002, Federal Duck Stamps have generated more than $600 million for the preservation of more than 5 million acres of waterfowl habitat in the United States. Numerous other birds, mammals, fish, reptiles, and amphibians have similarly prospered because of habitat protection made possible by the program. An estimated one-third of the Nation's endangered and threatened species find food or shelter in refuges preserved by Duck Stamp funds. Moreover, the protected wetlands help dissipate storms, purify water supplies, store flood water, and nourish fish hatchlings important for sport and commercial fisherman.

The Contest

The first Federal Duck Stamp was designed at President Franklin Roosevelt's request by Jay N. “Ding” Darling, a nationally known political cartoonist for the Des Moines Register and a noted hunter and wildlife conservationist. In subsequent years, noted wildlife artists were asked to submit designs. The first contest was opened in 1949 to any U.S. artist who wished to enter, and 65 artists submitted a total of 88 design entries in the only art competition of its kind sponsored by the U.S. Government. To select each year's design, a panel of noted art, waterfowl, and philatelic authorities are appointed by the Secretary of the Interior. Winners receive no compensation for the work, except a pane of their stamps, but winners may sell prints of their designs, which are sought by hunters, conservationists, and art collectors.

The public may view the 2004 Federal Duck Stamp entries on Monday, October 4, 2004, in the Department of the Interior Auditorium (“C” Street entrance), 1849 C Street, NW., Washington, DC. This year's judging will be held Tuesday, October 5, 2004.

Eligible Species

Species eligible for the 2004 contest include American wigeon, wood duck, gadwall, ring-necked duck, and hooded merganser. Entries featuring a species other than the above listed species will be disqualified.

Dated: February 9, 2004.
Steve Williams,
Director.

[FR Doc. 04-6170 Filed 3-18-04; 8:45 am]

BILLING CODE 4310-55-U